DEPARTMENT OF THE INTERIOR

National Park Service

[N6910; NPS-WASO-NAGPRA-NPS0041981; PPWOCRADN0-PCU00RP14.R50000]

Notice of Inventory Completion: University of Alabama at Birmingham, Birmingham, AL

AGENCY: National Park Service, Interior.

ACTION: Notice.

SUMMARY: In accordance with the Native American Graves Protection and Repatriation Act (NAGPRA), the University of Alabama at Birmingham has completed an inventory of human remains and associated funerary objects and has determined that there is a cultural affiliation between the human remains and associated funerary objects and Indian Tribes or Native Hawaiian organizations in this notice.

DATES: Repatriation of the human remains and associated funerary objects in this notice may occur on or after March 13, 2026.

ADDRESSES: Send written requests for repatriation of the human remains and associated funerary objects in this notice to Dr. Lauren Downs, University of Alabama at Birmingham, Department of Anthropology, UH 3165, 1720 2nd Avenue South, Birmingham, AL 35294, email nagprastaff@uab.edu.

SUPPLEMENTARY INFORMATION: This notice is published as part of the National Park Service's administrative responsibilities under NAGPRA. The determinations in this notice are the sole responsibility of the University of Alabama at Birmingham, and additional information on the determinations in this notice, including the results of consultation, can be found in its inventory or related records. The National Park Service is not responsible for the determinations in this notice.

Abstract of Information Available

Human remains representing, at least, five individuals have been identified. The 101 associated funerary objects are 46 lithic flakes; 19 undecorated pottery sherds; 11 miscellaneous stone; five chert lithic fragments; four unmodified sandstone fragments; three soil samples; two faunal bone fragments, species unknown; two fragments of white clay; two lots of charcoal; two wood fragments; one quartz projectile point; one soil and charred organics sample; one lot of charred organics; one charred seed fragment; and one chert projectile point. Site 1Sc245 is a large multi-component camp/village site spanning 40-50 acres adjacent to Little Cahaba River in St. Clair County, AL, near the modern town of Moody. The site was excavated several times by different UAB-affiliated personnel. Dr. Roger Nance and graduate student Chris McLauhlin visited the site in 1978 and 1987. This work included survey and excavations associated with graduate student research and a UAB-sponsored field school. Additionally, the site was visited by Dr. Jack Bergstresser and staff in 1998 to conduct test excavations as part of a contract archaeology project. Site use dates from the Early Archaic to the Late Woodland/Early Mississippian periods, and the ancestors and belongings date to the Late Woodland/Early Mississippian period—likely to the West Jefferson phase (roughly A.D. 900-1100). There is no record of potentially hazardous substances being used to treat the ancestors or associated funerary objects.

Cultural Affiliation

Based on the information available and the results of consultation, cultural affiliation is reasonably identified by the geographical location or acquisition history of the human remains and associated funerary objects described in this notice.

Determinations

The University of Alabama at Birmingham has determined that:

• The human remains described in this notice represent the physical remains of five individuals of Native American ancestry.

• The 101 objects described in this notice are reasonably believed to have been placed intentionally with or near individual human remains at the time of death or later as part of the death rite or ceremony.

• There is a connection between the human remains and associated funerary objects described in this notice and the Alabama-Coushatta Tribe of Texas; Poarch Band of Creek Indians; Seminole Tribe of Florida; The Muscogee (Creek) Nation; and the Thlopthlocco Tribal Town.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after March 13, 2026. If competing requests for repatriation are received, the University of Alabama at Birmingham must determine the most appropriate requestor prior to repatriation. Requests for joint repatriation of the human remains and associated funerary objects are considered a single request and not competing requests. The University of Alabama at Birmingham is responsible for sending a copy of this notice to the Indian Tribes and Native Hawaiian organizations identified in this notice and any other consulting parties.

Authority: Native American Graves Protection and Repatriation Act, 25 U.S.C. 3003, and the implementing regulations, 43 CFR 10.10.

Dated: February 4, 2026.
Melanie O'Brien,
Manager, National NAGPRA Program.

[FR Doc. 2026-02694 Filed 2-10-26; 8:45 am]

BILLING CODE 4312-52-P